DEPARTMENT OF JUSTICE

Meeting of the Religious Liberty Commission

AGENCY: Office of the Associate Attorney General, United States Department of Justice (DOJ).

ACTION: Notice of Federal advisory committee meeting.

SUMMARY: The DOJ is publishing this notice to announce the fourth Federal advisory committee meeting of the Religious Liberty Commission (Commission).

DATES: Open to the public December 10, 2025, from 8:30 a.m. to 1:30 p.m.

ADDRESSES: The meeting will be held at the Debate Chamber at the Old Parkland, 3819 Maple Ave., Dallas, TX 75219. The meeting will be recorded and broadcast at justice.gov/live.

FOR FURTHER INFORMATION CONTACT: Mary Margaret Bush, Religious Liberty Commission Director and Designated Federal Officer, RLC@usdoj.gov, 202-514-2046. Mrs. Bush can also be contacted to request a reasonable accommodation to attend the meeting.

Registration Information: Registration is required for in-person attendance. In-person attendance is limited to venue capacity. Members of the public may register on the Religious Liberty Commission website, https://www.justice.gov/religious-liberty-commission. Members of the public who attend in-person will be required to present identification and go through security screening.

We ask guests from the media to register through the Office of Public Affairs by December 5, 2025 at 5 p.m. Media should be prepared to go through security checks and present government-issued photo I.D. and valid media credentials.

SUPPLEMENTARY INFORMATION: The Religious Liberty Commission is a federal advisory committee established by the President through Executive Order 14291. The Commission is composed of a chair, a vice chair, and eleven members appointed by the President, including representatives from the private sector, employers, educational institutions, religious communities and States, and three ex-officio members. The Commission advises the Domestic Policy Council and the White House Faith Office on religious liberty policies of the United States, and will produce a comprehensive report to the President on the foundations of religious liberty in America, the impact of religious liberty on American society, current threats to domestic religious liberty, strategies to preserve and enhance religious liberty protections for future generations, and programs to increase awareness of and celebrate America's peaceful religious pluralism.

Agenda: During its fourth meeting on December 10, 2025, the Commission will discuss religious liberty in the military, as well as state and local religious liberty issues.

Public Comment: Written comments may be sent by email to RLC@usdoj.gov or by mail to U.S. Department of Justice, Office of the Associate Attorney General, ATTN: Religious Liberty Commission, 950 Pennsylvania Avenue NW, Room 5706 Washington, DC 20530. The deadline for comments is December 1, 2025.

Notice of this meeting is given under the Federal Advisory Committee Act (5 U.S.C. 1001 et seq.).

Dated: November 19, 2025.
Mary Margaret Bush,
Designated Federal Officer, Religious Liberty Commission.

[FR Doc. 2025-20694 Filed 11-21-25; 8:45 am]

BILLING CODE 4410-21-P